DEPARTMENT OF COMMERCE

National Oceanic and Atmospheric Administration

RIN 0648-XG118

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Scientific and Statistical Committee (SSC) and Socio-Economic Panel (SEP) to review the seasonal autoregressive integrated moving average (SARIMA) model proposed for use by the Southeast Regional Office (SERO) staff to conduct management analyses. See SUPPLEMENTARY INFORMATION.

DATES: The SSC and SEP meeting will be held via webinar on Monday, May 7, 2018, from 10 a.m. to 12 p.m.

ADDRESSES:

Meeting address: The meeting will be held via webinar. The webinar is open to members of the public. Those interested in participating should contact Mike Errigo at the Council office (see FOR FURTHER INFORMATION CONTACT) to request an invitation providing webinar access information. Please request webinar invitations at least 24 hours in advance of the webinar.

Council address: South Atlantic Fishery Management Council, 4055 Faber Place Drive, Suite 201, N. Charleston, SC 29405.

FOR FURTHER INFORMATION CONTACT: Mike Errigo; 4055 Faber Place Drive, Suite 201, North Charleston, SC 29405; phone: (843) 571-4366 or toll free: (866) SAFMC-10; fax: (843) 769-4520; email: mike.errigo@safmc.net.

SUPPLEMENTARY INFORMATION: This meeting is held to review the SARIMA model proposed for use in management analyses by SERO staff. The SSC decided at their October 24-26, 2017 meeting in Charleston, SC that the complexity of the SARIMA model made it less favorable as a management tool. They also determined that the method using the last 3 years of fishery data was likely more representative of the current fishery than using the entire time series, as was done in the SARIMA model. However, the SEP also reviewed the SARIMA model and concluded that in principle, the SARIMA model is superior to using average catch rates from the last 3 years. The SEP's recommendation was to present both models to the Council as both have pros and cons.

Items to be addressed during this meeting

Review the proposed SARIMA model and provide comments and recommendations as necessary.

Special Accommodations

The meeting is physically accessible to people with disabilities. Requests for sign language interpretation or other auxiliary aids should be directed to the Council office (see ADDRESSES) at least 5 business days prior to the meeting.

Note: The times and sequence specified in this agenda are subject to change.

Authority: 16 U.S.C. 1801 et seq.

Dated: April 17, 2018.
Tracey L. Thompson,
Acting Deputy Director, Office of Sustainable Fisheries, National Marine Fisheries Service.

[FR Doc. 2018-08327 Filed 4-19-18; 8:45 am]

BILLING CODE 3510-22-P